ENVIRONMENTAL PROTECTION AGENCY

40 CFR Part 136

[FRL-7106-8]

Guidelines Establishing Test Procedures for the Analysis of Pollutants; Whole Effluent Toxicity Test Methods; Extension of Comment Period

AGENCY: Environmental Protection Agency (EPA).

ACTION: Proposed rule; extension of comment period.

SUMMARY: The U.S. Environmental Protection Agency (EPA) is extending the comment period for the proposed rule to revise and ratify its approval of several analytical test procedures measuring “whole effluent toxicity.” The proposed rule was published in the Federal Register on September 28, 2001 (66 FR 49794), and the comment period was scheduled to end on November 27, 2001. The comment period will be extended for 45 days and will now end on January 11, 2002.

DATES: Comments must be postmarked, delivered by hand, or electronically mailed on or before January 11, 2002. Comments provided electronically will be considered timely if they are submitted by 11:59 p.m. Eastern Standard Time (EST) on January 11, 2002.

ADDRESSES: Send written or electronic comments on the proposed rule (66 FR 49794) to “Whole Effluent Toxicity (WET) Test Method Changes” Comment Clerk (WET-IX); Water Docket (4101); U.S. Environmental Protection Agency; Ariel Rios Building; 1200 Pennsylvania Avenue, NW., Washington, DC 20460. EPA requests that commenters submit copies of any references cited in comments. Commenters also are requested to submit an original and three copies of their written comments and enclosures. Commenters that want receipt of their comments acknowledged should include a self-addressed, stamped envelope. All written comments must be postmarked or delivered by hand. No facsimiles (faxes) will be accepted. Hand deliveries should be delivered to EPA's Water Docket at 401 M Street, SW., Room EB 57, Washington, DC 20460.

Comments may be submitted electronically to: OW-Docket@epa.gov. Electronic comments must be submitted as a Word Perfect 5/6/7/8 file or an ASCII file, avoiding the use of special characters and any form of encryption. Comments and data also will be accepted on disks in WordPerfect 5/6/7/8 or ASCII file format. Electronic comments may be filed online at any Federal Depository Library. All electronic comments must be identified by docket number (WET-IX). Electronic comments will be transferred into a paper version for the official record. EPA will attempt to clarify electronic comments if there is an apparent error in transmission.

A record for the proposed rulemaking (66 FR 49794) has been established under docket number WET-IX. A copy of the supporting documents cited in the proposed rule is available for review at EPA's Water Docket, East Tower Basement (Room EB 57), 401 M Street, SW., Washington, DC 20460. For access to docket materials, call (202) 260-3027 on Monday through Friday, excluding Federal holidays, between 9 a.m. and 3:30 p.m. EST to schedule an appointment.

The proposed rule (66 FR 49794) has been placed on the Internet for public review and downloading at the following location: http://www.epa.gov/fedrgstr/. Other documents referenced in the proposed rule also are available on the Internet. The final report of EPA's WET Interlaboratory Variability Study (Volumes 1 and 2) and the document titled, Proposed Changes to Whole Effluent Toxicity Method Manuals are available on the Internet at http://www.epa.gov/waterscience/WET.

FOR FURTHER INFORMATION CONTACT: For regulatory information regarding this notice or the proposed rule, contact Marion Kelly, Engineering and Analysis Division (4303), Office of Science and Technology, Office of Water, U.S. Environmental Protection Agency, 1200 Pennsylvania Avenue, NW., Washington, DC 20460 (e-mail: kelly.marion@epa.gov) or call (202) 260-7117. For technical information regarding the proposed rule, contact Teresa J. Norberg-King, National Health and Environmental Effects Research Laboratory, Mid-Continent Ecology Division, Office of Research and Development, U.S. Environmental Protection Agency, 6201 Congdon Boulevard, Duluth, MN 55804 (e-mail: norberg-king.teresa@epa.gov) or call (218) 529-5163.

SUPPLEMENTARY INFORMATION: On September 28, 2001, EPA published in the Federal Register (66 FR 49794) a proposed rule to ratify its approval of several whole effluent toxicity (WET) test methods, which the Agency standardized in an earlier rulemaking (60 FR 53529; October 16, 1995). The proposed rule published on September 28, 2001 also would modify the WET test procedures to update the methods, provide minor corrections and clarifications, and address specific stakeholder concerns. The proposed changes are intended to improve the performance of WET tests, and thus increase confidence in the reliability of the results obtained using the test procedures. By proposing to revise and ratify WET test methods, EPA satisfied obligations in a settlement agreement designed to resolve litigation over the original rulemaking that standardized WET test procedures.

In the September 28, 2001 notice of proposed rulemaking, EPA requested public comment on its proposal to revise and ratify WET test methods. The 60-day public comment period established for this rule was scheduled to end on November 27, 2001. EPA received a request to extend the public comment period beyond the November 27, 2001 due date. In order to ensure that the public has an adequate opportunity to review and comment on the proposed rule, EPA is extending the comment period for an additional 45 days to January 11, 2002.

Dated: November 15, 2001.
G. Tracy Mehan, III,
Assistant Administrator for Water.

[FR Doc. 01-29270 Filed 11-21-01; 8:45 am]

BILLING CODE 6560-50-P